DEPARTMENT OF THE INTERIOR

Bureau of Land Management

[UT-062-05-1220-PM]

Notice of Camping, Parking, Wood Cutting and Wood Gathering Restrictions, Moab Field Office, UT

AGENCY: Bureau of Land Management (BLM), DOI.

ACTION: Notice of camping, parking, wood cutting, and wood gathering restrictions—Moab Field Office, Utah.

SUMMARY: This notice, applicable to specified public lands administered by BLM's Moab Field Office, limits camping to developed sites and areas (developed campgrounds and designated camping sites), allows BLM to limit the size of designated camping and parking areas, and requires the use of portable toilets at designated camp sites where toilets are not provided. Additionally, this notice prohibits wood cutting and gathering, including Christmas tree cutting, in these intensively used areas. These actions are necessary to protect natural resources, maintain quality recreation opportunities, and provide for public safety.

DATES: This notice is effective May 24, 2005, and shall remain in effect until modified by the authorized officer.

FOR FURTHER INFORMATION CONTACT: Russell von Koch, Recreation Branch Chief, BLM Moab Field Office, 82 East Dogwood Avenue, Moab, Utah 84532, or telephone 435-259-2100.

SUPPLEMENTARY INFORMATION: Frequent use of public lands near Moab, Utah for camping and parking (and related vehicle and off-highway vehicle use) at undeveloped sites, and associated wood cutting and gathering, are damaging soils, vegetation, cultural resources, and scenic values in the locations that are listed below and may damage paleontological values in some of the areas. In addition, certain of these areas have nearby residences, and sanitation is a problem at heavily used sites. The following actions are necessary to halt ongoing impacts and prevent future degradation of resource values, limit impacts on neighboring landowners, provide for sanitation and public safety, and maintain the quality of recreation opportunities.

Camping, Parking, Wood Cutting and Gathering Restrictions

To provide for public safety and halt ongoing impacts and prevent future degradation of resource values, limit impacts on neighboring landowners (where present), and maintain the quality of recreation opportunities, the following actions are necessary on a year-round basis. Camping on BLM administered public land in the following areas is limited to developed campgrounds and designated camping sites. Possession, set up for usage, and use of portable toilets for solid human body waste is required for overnight use at all designated campsites in the areas described below, except at sites where constructed toilets are provided. (A portable toilet is defined as (1) containerized and reusable, (2) commercially available biodegradable system that is landfill disposable, or (3) a toilet within a camper, trailer, or motorhome.) Disposal of portable toilet waste off public land is required. Wood cutting and gathering, including Christmas tree cutting, on BLM administered public land within all of the areas described below is prohibited at all times.

(1) Kane Creek Crossing: the area of public land where the Kane Creek Road crosses Kane Creek (below Hurrah Pass). This includes the public lands in the following sections: T. 27 S., R. 21 E., Sections 10, 14 and 15, the southern half of Section 3, and the southern half of Section 9.

(2) Courthouse/Mill/Tusher/Bartlett/Hidden/Brinks Canyon area: this area includes public lands south of the Blue Hills Road (including side roads up Courthouse Wash, Mill Canyon, Tusher Canyon, Bartlett Canyon, and Hidden Canyon), west of U.S. Highway 191, north of Utah Highway 313, and east of the Dubinky Well Road.

(3) Areas identified in the Canyon Rims Special Recreation Management Area Recreation Plan where camping is restricted. These are public lands within a one-mile radius around Windwhistle and Hatch Campgrounds, the Looking Glass Rock interpretive site, and the Needles and Anticline overlooks.

(4) Areas to the west of and adjacent to residential areas in Moab and Spanish Valley. These include the lands in the following sections: T. 26 S., R. 21 E., Section 12; T 26 S., R. 22 E., Sections 18, 20, and 28 and 29.

(5) The area around Dripping Springs (Ten Mile Canyon). These include the public lands in the following sections: T 24 S., R. 18 E., Sections 4, 5, 6, 7, 8, and 9 (of which only small portions are accessible to vehicular camping due to topography).

(6) Areas south of Moab (in San Juan County) within one mile on either side of the LaSal Mountain Loop Road and the Pack Creek Road, and within one-half mile on either side of the Black Ridge Road. This area includes portions of T. 27 S., R. 23 E., Sections 17, 22, 30 and 31, and portions of T. 28 S., R. 23 E., Sections 4, 5, 6, 7, 8 and 9.

These areas consist of approximately 55,970 acres of BLM administered public lands.

Exceptions

The camping and wood cutting and gathering restrictions do not apply to activities permitted by the BLM, or to traditional and historic uses by Native Americans, BLM official uses, or military, fire, emergency, or law enforcement actions. Backpacking is defined as camping more than 1 mile from a road without a vehicle. Backpacking is not regulated by this notice.

Implementation

Maps showing these and all current Moab Field Office camping and wood cutting and gathering restrictions are available for public review at the Moab Field Office. These restrictions are also shown on a map on the Moab Field Office's Web site at http://www.blm.gov/utah/moab. BLM will provide public land users with information about these camping and wood cutting and gathering restrictions using brochures, signs, and bulletin boards with maps at major entry areas. Enforcement actions will be taken as necessary in accordance with 43 CFR 8360.0-7, or violators may be subject to the enhanced penalties provided for by 18 U.S.C. 3571.

Future Planning

This notice of camping, parking, wood cutting, and wood gathering shall not be construed as a limitation on BLM's future planning efforts and/or management of such uses on public lands. BLM will periodically monitor resource conditions and trends in the areas described above and may modify this notice or implement additional limitations or closures as necessary.

Authority: 43 CFR 8364.1.

Dated: February 2, 2005.
Margaret Wyatt,
Moab Field Office Manager.

[FR Doc. 05-10260 Filed 5-23-05; 8:45 am]

BILLING CODE 4310-DQ-P